DEPARTMENT OF THE INTERIOR

Bureau of Land Management

[LLCON02000 L16100000.DQ0000]

Notice of Availability of the Proposed Resource Management Plan and Final Environmental Impact Statement for the Kremmling Field Office, Colorado

AGENCY: Bureau of Land Management, Interior.

ACTION: Notice of Availability.

SUMMARY: In accordance with the National Environmental Policy Act of 1969, as amended, and the Federal Land Policy and Management Act of 1976, as amended, the Bureau of Land Management (BLM) has prepared a Proposed Resource Management Plan (RMP)/Final Environmental Impact Statement (EIS) for the Kremmling Field Office Planning Area and by this notice is announcing its availability.

DATES: The BLM planning regulations provide that any person who meets the conditions as described in the regulations may protest the BLM's Proposed RMP/Final EIS. A person who meets the conditions and files a protest must file the protest within 30 days of the date that the Environmental Protection Agency publishes its notice of availability in the Federal Register.

ADDRESSES: The BLM sent copies of the Kremmling Proposed RMP/Final EIS to affected Federal, State, and local government agencies; other stakeholders; Tribal governments; and members of the public who requested copies. Copies of the Proposed RMP/Final EIS are available for public inspection at the BLM Kremmling Field Office, 2103 East Park Avenue, Kremmling, CO 80459. Interested persons may also review the Proposed RMP/Final EIS on the Internet at http://www.blm.gov/co/st/en/fo/kfo.html. All protests must be in writing and mailed to one of the following addresses: Regular Mail: BLM Director (210), Attention: Protest Coordinator, P.O. Box 71383, Washington, DC 20024-1383. Overnight Delivery: BLM Director (210), Attention: Protest Coordinator, 20 M Street SE., Room 2134LM, Washington, DC 20003.

FOR FURTHER INFORMATION CONTACT: Dennis Gale, project manager; telephone: 970-724-3003; address: BLM Kremmling Field Office, P.O. Box 68, Kremmling, CO 80459; email: dgale@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Proposed RMP/Final EIS addresses management of public lands and resources within the Kremmling Field Office planning area, which includes Grand, Jackson, Summit and parts of Larimer and Eagle counties, Colorado. Public lands and resources in the Kremmling Field Office are currently managed under the 1984 Kremmling RMP, as amended. The planning area includes approximately 377,900 acres of BLM-administered surface estate and approximately 653,500 acres of subsurface Federal mineral estate.

The Proposed RMP/Final EIS is a mix of the actions presented and analyzed in the four alternatives in the Draft RMP/EIS. The Draft RMP alternatives emphasized: continuation of current management (No Action—Alternative A); allocation of limited resources to meet the demands of competing land uses while conserving natural and cultural resources (Preferred—Alternative B); resource protection and preservation of the ecological integrity of habitats for all priority plant, wildlife and fish species, particularly the habitats needed for the conservation and recovery of threatened and endangered plant and animal species (Alternative C); and maximizing resource production while maintaining the basic protections needed to sustain resources (Alternative D). The alternatives varied accordingly in their resource management actions addressing the 12 major planning issues identified in the initial public scoping process for the RMP revision. The planning issues are recreation demand and uses, special designations, energy development, wildlife habitat management, sagebrush habitat and sagebrush-dependent species, vegetation, travel management and transportation, lands and realty, wildland-urban interface, rangeland health and upland management, water and riparian resources and cultural resources. The management actions selected for the Proposed RMP are a mix of actions from the alternatives in the Draft RMP that best meet the purpose and need for the RMP and respond to the major planning issues.

The Proposed RMP includes, among an extensive list of management actions, designating and managing 4 special recreation management areas and 1 extensive recreation management area; protecting wilderness characteristics on 544 acres of lands adjacent to the Troublesome Wilderness Study Area; managing to protect a variety of special status plant and animal species, including the Greater Sage-Grouse; designating 14 core wildlife areas (8 in Jackson County and 6 in Grand County); implementing a Stakeholder's Management Plan to manage 2 Colorado River segments eligible for Wild and Scenic River designation; designating 8 Areas of Critical Environmental Concern (ACEC); continuing to manage 3 existing Wilderness Study Areas; and designating motorized and non-motorized travel routes on the public lands within the planning area.

The Proposed RMP also includes a Master Leasing Plan (MLP) to facilitate the exploration and development of oil and gas resources in the North Park MLP area (390,600 acres) while resolving possible conflicts with future leasing and development and ensuring protection of the area's resources and resource uses, including, but not limited to: air quality, soils, water, riparian, fish and wildlife, Special Status Species, recreation and ACECs.

Comments on the Draft RMP/Draft EIS received from the public and internal BLM review were considered and incorporated as appropriate into the proposed plan. Public comments resulted in the addition of clarifying text, but did not significantly change proposed land use plan decisions.

Instructions for filing a protest with the Director of the BLM regarding the Proposed RMP/Final EIS may be found in the “Dear Reader” Letter of the Kremmling Proposed RMP/Final EIS and at 43 CFR 1610.5-2. All protests must be in writing and mailed to the appropriate address, as set forth in the ADDRESSES section above. Emailed protests will not be accepted as valid protests unless the protesting party also provides the original letter by either regular or overnight mail postmarked by the close of the protest period. Under these conditions, the BLM will consider the emailed protest as an advance copy and it will receive full consideration. If you wish to provide the BLM with such advance notification, please direct emails to protest@blm.gov.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2, 43 CFR 1610.5.

Ruth Welch,
BLM Colorado Acting State Director.

[FR Doc. 2014-06183 Filed 3-20-14; 8:45 am]

BILLING CODE 4310-JB-P